DEPARTMENT OF TRANSPORTATION

Federal Aviation Administration

[Summary Notice No. PE-2000-26]

Petitions for Exemption; Summary of Petitions Received; Dispositions of Petitions Issued

AGENCY: Federal Aviation Administration (FAA), DOT.

ACTION: Notice of petitions for exemption received and of disposition of prior petitions.

SUMMARY: Pursuant to FAA's rulemaking provisions governing the application, processing, and disposition of petitions for exemption (14 CFR part 11), this notice contains a summary of certain petitions seeking relief from specified requirements of the Federal Aviation Regulations (14 CFR Ch. I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 16, 2000.

ADDRESSES: Send comments on any petition in triplicate to: Federal Aviation Administration, Office of the Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of part 11 of Federal Aviation Regulations (14 CFR Part 11).

Issued in Washington, DC, on July 21, 2000.
Gary A. Michel,
Acting Assistant Chief Counsel for Regulations.

Dispositions of Petitions

Docket No.: 29874

Petitioner: Alaska Flying Network Flying Club

Section of the FAR Affected: 14 CFR 135.251, 135.255, 121.353, and appendixes I and J of part 121

Description of Relief Sought/Disposition: To permit AFN Flying Club to conduct local sightseeing flights at an airport in the vicinity of Kenai, AK, to raise funds for local charities, for compensation or hire, without complying with certain anti-drug and alcohol misuse prevention requirements of part 135.

Grant, 7/11/00, Exemption No. 7274

Docket No.: 29257

Petitioner: Priority Air, Inc.

Section of the FAR Affected: 14 CFR 135.143(c)(2)

Description of Relief Sought/Disposition: To permit Priority Air to operate certain aircraft under part 135 without a TSO-C112 (Mode S) transponder installed on those aircraft.

Grant, 07/07/00, Exemption No. 6801A

Docket No.: 30037

Petitioner: Canton Airport Board

Section of the FAR Affected: 14 CFR 135.251, 135.255, 135.353, and appendixes I and J of part 121

Description of Relief Sought/Disposition: To permit CAB to conduct local sightseeing flights at Ellingson Field, Canton, South Dakota, for the annual Canton Car Show on July 24, 2000, for compensation or hire, without complying with certain anti-drug and alcohol misuse prevention requirements of part 135.

Grant, 07/07/00, Exemption No. 7273

Docket No.: 30102

Petitioner: Corvallis Chapter of the Oregon Pilots Association

Section of the FAR Affected: 14 CFR 135.251, 135.255, 135.353, and appendixes I and J to part 121

Description of Relief Sought/Disposition: To permit CCOPA to conduct local sightseeing flights at Corvallis Municipal Airport for a two-day air fair in July 2000, for compensation or hire, without complying with certain anti-drug and alcohol misuse prevention requirements of part 135.

Grant, 07/06/00, Exemption No. 7270

Docket No.: 30095

Petitioner: Experimental Aircraft Association Chapter 597

Section of the FAR Affected: 14 CFR 91.315, 91.319(a), 135.251, 135.255, 135.353, and appendixes I and J to part 121

Description of Relief Sought/Disposition To permit EAA Chapter 597 to conduct local sightseeing flights at Howard Nixon Memorial Airport, Chesaning, Michigan, for three one-day charitable events, one each in July 2000, September 2000, and October 2000, supporting the Chesaning Sportplane Association and the Young Eagles program, for compensation or hire, without complying with certain anti-drug and alcohol misuse prevention requirements of part 135.

Grant, 07/06/00, Exemption No. 7679

Docket No.: 30032

Petitioner: Corvallis Aviation Inc. dba Metro Helicopters Inc.

Section of the FAR Affected: 14 CFR 135.143(c)(2)

Description of Relief Sought/Disposition: To permit MHI to operate certain aircraft under part 135 without a TSO-C112 (Mode S) transponder installed in the aircraft.

Grant, 07/05/00, Exemption No. 7266

Docket No.: 30045

Petitioner: Master Track Inc.

Section of the FAR Affected: 14 CFR 135.143(c)(2)

Description of Relief Sought/Disposition: To permit MTI to operate certain aircraft under part 135 without a TSO-C112 (Mode S) transponder installed in the aircraft.

Grant, 07/05/00, Exemption No. 7268

Docket No.: 30033

Petitioner: Alpine Air Inc.

Section of the FAR Affected: 14 CFR 135.143(c)(2)

Description of Relief Sought/Disposition: To permit AAI to operate aircraft under part 135 without a TSO-C112 (Mode S) transponder installed in the aircraft.

Grant, 07/05/00, Exemption No. 7267

Docket No.: 30090

Petitioner: Lance Air Flight Training Center

Section of the FAR Affected: 14 CFR 135.251, 135.255, 135.353, and appendixes I and J to part 121

Description of Relief Sought/Disposition: To permit Lance Air to conduct local sightseeing flights at four airshow events in 2000,for compensation or hire, without complying with certain anti-drug and alcohol misuse prevention requirements of part 135.

Grant, 07/03/00, Exemption No. 7262

Docket No.: 30087

Petitioner: Belford Flying Service

Section of the FAR Affected: 14 CFR 135.251, 135.255, 135.353, and appendixes I and J to part 121

Description of Relief Sought/Disposition: To permit Belford to conduct local sightseeing flights at Fairfield County Airport, Lancaster, Ohio, for a three-day charitable event in July 2000, for compensation or hire, without complying with certain anti-drug and alcohol misuse prevention requirements of part 135.

Grant, 07/03/00, Exemption No. 7265

Docket No.: 30067

Petitioner: Alaska Air Transit

Section of the FAR Affected: 14 CFR 135.143(c)(2)

Description of Relief Sought/Disposition: To permit AAT to operate certain aircraft under part 135 without a TSO-C112 (Mode S) transponder installed in the aircraft.

Grant, 07/03/00, Exemption No. 7261

Docket No.: 30099

Petitioner: Hastings Flying Association

Section of the FAR Affected: 14 CFR 135.251, 135.255, 135.353, and appendixes I and J to part 121

Description of Relief Sought/Disposition: To permit Hastings to conduct local sightseeing flights at Hastings-Barry County Airport, Hastings, MI, for a one-day fundraising event in July 2000, for compensation or hire, without complying with certain anti-drug and alcohol misuse prevention requirements of part 135.

Grant, 07/03/00, Exemption No. 7263

Docket No.: 30040

Petitioner: Adams, Jerry L et al.

Section of the FAR Affected: 14 CFR 121.383(c)

Description of Relief Sought/Disposition: To permit those individual to act as pilots in operations conducted under part 121 after reaching their 60th birthdays.

Denial, 07/03/00, Exemption No. 7264

Docket No.: 29651

Petitioner: Experimental Aircraft Association, Inc.

Section of the FAR Affected: 14 CFR 135.251, 135.255, and 135.353, and appendixes I and J to part 121

Description of Relief Sought/Disposition: To permit EAA members to conduct local sightseeing flights at charity or community events, for compensation or hire, without complying with certain anti-drug and alcohol misuse prevention requirements of part 135.

Grant, 06/29/00, Exemption No. 7111A

Docket No.: 26103

Petitioner: Northwest Seaplanes, Inc.

Section of the FAR Affected: 14 CFR 135.203(a)(1)

Description of Relief Sought/Disposition: To permit Northwest Seaplanes to conduct part 135 operations outside of controlled airspace, over water, at an altitude below 500 feet above the surface.

Grant, 06/29/00, Exemption No. 6461C

[FR Doc. 00-18897 Filed 7-25-00; 8:45 am]

BILLING CODE 4910-13-M